DEPARTMENT OF HOMELAND SECURITY

Coast Guard

[USCG-2006-25484]

Commercial Fishing Industry Vessel Safety Advisory Committee

AGENCY: Coast Guard, DHS.

ACTION: Notice of meeting.

SUMMARY: The Commercial Fishing Industry Vessel Safety Advisory Committee (CFIVSAC) will meet to discuss various issues relating to vessel safety in the commercial fishing industry. The meeting is open to the public.

DATES: The CFIVSAC will meet on September 12 thru 14, 2006, from 8 a.m. to 5 p.m. The meeting may close early if all business has been completed. Requests to make oral presentations should reach the Coast Guard on or before August 11, 2006. Written material for distribution at the meeting should reach the Coast Guard on or before September 1, 2006. Requests to have a copy of any material distributed to each member of the committee should reach the Coast Guard on or before August 25, 2006.

ADDRESSES: The CFIVSAC will meet in conference room 2230-32 of the U.S. Department of Transportation, 400 7th Street, SW., Washington, DC 20590. The World Wide Web site can be found at: http://www.dot.gov/.

FOR FURTHER INFORMATION CONTACT: Lieutenant Roberto Trevino, by telephone at 202-372-1248, fax 202-372-1917, or e-mail: RTrevino@comdt.uscg.mil.

SUPPLEMENTARY INFORMATION: Information about the CFIVSAC, up to date meeting information, and past meeting minutes are available at the following World Wide Web site: http://www.FishSafe.info.

The CFIVSAC will meet to discuss various issues relating to vessel safety in the commercial fishing industry. The meeting is open to the public. Notice of the meeting is given under the Federal Advisory Committee Act, 5 U.S.C. App. 2.

Agenda of Meeting

Items to be discussed and business to be conducted include:

(1) Approval of July 2005 meeting minutes.

(2) Brief by the Executive Secretary on membership status and term limits.

(3) Brief by the Executive Secretary on the Coast Guard Authorization Act of 2006, Legislative Change Proposals, and Aleutian Trade Act Notice to Proposed Rulemaking update.

(4) Discussion of member responsibilities and expected support from the Coast Guard.

(5) Discussion on Risk Identification procedures, Prevention Through People initiatives & PTP and Offshore Communications improvements.

(6) Discussion and working group sessions by subcommittees on current program strategies and future plans.

(7) Discussion on Fishing Vessel Casualty Analysis.

(8) Discussion of areas to be addressed and status of Fishing Vessel Notice of Proposed Rulemaking.

Procedural

The meeting is open to the public. Please note the meeting may close early if all necessary business has been completed. At the Chair's discretion, members of the public may make presentations during the meeting. If you would like to make an oral presentation at the meeting, please notify the Executive Secretary no later than August 11, 2006. Written material for distribution at the meeting should reach the Coast Guard no later than September 1, 2006. If you would like a copy of any material distributed to each member of the committee in advance of the meeting, please submit 25 copies to Lieutenant Roberto Trevino no later than August 25, 2006.

Information on Services for Individuals With Disabilities

For information on facilities or services for individuals with disabilities or to request special assistance at the meeting, contact Lieutenant Roberto Trevino, by telephone at 202-372-1248, fax 202-372-1917, or e-mail: RTrevino@comdt.uscg.mil as soon as possible. The mailing address is Commandant (G-PCV-3), U.S. Coast Guard, 2100 Second Street, SW., Room 1116, Washington, DC 20593-0001.

Dated: July 28, 2006.
J.G. Lantz,
Director of National and International Standards, Assistant Commandant for Prevention.

[FR Doc. E6-12584 Filed 8-3-06; 8:45 am]

BILLING CODE 4910-15-P